DEPARTMENT OF LABOR

Employment and Training Administration

[TA-W-64,588]

Genwove U.S. Ltd., Indian Trail, NC; Notice of Termination of Investigation

Pursuant to Section 221 of the Trade Act of 1974, as amended, an investigation was initiated on December 3, 2008, in response to a petition filed by a State Workforce Office on behalf of workers at Genwove U.S. Ltd., Indian Trail, North Carolina.

The petition has been withdrawn at the request of the petitioner. Consequently, the investigation has been terminated.

Signed at Washington, DC this 5th day of December 2008.
Elliott S. Kushner,
Certifying Officer, Division of Trade Adjustment Assistance.

[FR Doc. E8-29606 Filed 12-12-08; 8:45 am]

BILLING CODE 4510-FN-P